DEPARTMENT OF EDUCATION

[Docket No.: ED-2021-SCC-0022]

Agency Information Collection Activities; Submission to the Office of Management and Budget for Review and approval; Comment Request; National Study to Inform the 21st Century Community Learning Centers (CCLC) Program

AGENCY: Institute of Educational Sciences (IES), Department of Education (ED).

ACTION: Notice.

SUMMARY: In accordance with the Paperwork Reduction Act of 1995, ED is proposing a new information collection.

DATES: Interested persons are invited to submit comments on or before June 1, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Erica Johnson, 202-245-7676.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Study to Inform the 21st Century Community Learning Centers (CCLC) Program.

OMB Control Number: 1850-NEW.

Type of Review: A new information collection.

Respondents/Affected Public: Individuals and Households.

Total Estimated Number of Annual Responses: 1,228.

Total Estimated Number of Annual Burden Hours: 397.

Abstract: The 21st CCLC program funds services during non-school hours, primarily during the school year. The services aim to help students meet state academic standards, particularly for students in low-performing schools that serve high concentrations of low-income families. Most participants (71 percent) are students attending afterschool centers during the school year, with the remainder being family members (14 percent) or summer attendees (15 percent). Afterschool centers supported by program funds provide a broad range of activities and services, such as academic enrichment, physical activity, service learning, and activities to engage families. Program activities and services may play a crucial role in addressing the substantial learning loss and other challenges that have occurred as a result of the COVID-19 pandemic.

This study will have two components. The first is a national snapshot of strategies that afterschool centers in the 21st CCLC program use to serve their students and families. The national snapshot will complement and extend information from the program's annual performance measures by providing an in-depth understanding of the key outcomes centers aim to promote and the diverse ways their activities and services for students and families, supports for staff, and improvement strategies are designed to promote these outcomes. Describing these strategies can provide insights into ways that centers seek to address longer-term challenges, such as learning loss and trauma, stemming from the pandemic. The second component is an evaluation of a continuous quality improvement system implemented in the program's afterschool centers. The evaluation will examine the implementation and effectiveness of a system focused on improving staff practices that promote students' social and emotional skills. Promoting these skills may be particularly important to compensate for the effects of the pandemic, in light of evidence that remote learning has negatively affected students' social and emotional well-being.

This package only requests clearance for data collection activities that will occur before March 2022 and impose burden on respondents. These activities, all part of the evaluation of a continuous quality improvement system (the study's second component), involve collecting parent/guardian questionnaires and permission forms, afterschool center coaching logs, and student afterschool attendance records.

Dated: April 27, 2021.
Stephanie Valentine,
PRA Coordinator, Strategic Collections and Clearance Governance and Strategy Division, Office of Chief Data Officer, Office of Planning, Evaluation and Policy Development.

[FR Doc. 2021-09085 Filed 4-29-21; 8:45 am]

BILLING CODE 4000-01-P